POSTAL SERVICE

Privacy Act of 1974; System of Records

AGENCY: Postal Service™.

ACTION: Notice of a modified system of records.

SUMMARY: The United States Postal Service® (Postal Service) is proposing to modify a General Privacy Act System of Records (SOR) to support the implementation of an online tool that will be used by the Government Relations and Public Policy department within the Postal Service to more effectively manage relationships with Congressional, federal, and state officials.

DATES: These revisions will become effective without further notice on September 10, 2021, unless, in response to comments received on or before that date result in a contrary determination.

ADDRESSES: Comments may be submitted via email to the Privacy and Records Management Office, United States Postal Service Headquarters (privacy@usps.gov). To facilitate public inspection, arrangements to view copies of any written comments received will be made upon request.

FOR FURTHER INFORMATION CONTACT: Janine Castorina, Chief Privacy and Records Management Officer, Privacy and Records Management Office, 202-268-3069 or privacy@usps.gov.

SUPPLEMENTARY INFORMATION: This notice is in accordance with the Privacy Act requirement that agencies publish their systems of records in the Federal Register when there is a revision, change, or addition, or when the agency establishes a new system of records. The Postal Service is proposing revisions to an existing system of records (SOR) to support the implementation of an online tool that will be used to track meetings and interactions for the Government Relations and Public Policy department within the Postal Service.

I. Background

The Government Relations and Public Policy (GRPP) department is responsible for managing public policy issues at all levels. This includes legislation and other policies affecting the Postal Service, as well as developing public policy strategy, tactics and messaging, and serving as the primary representative with Congress, the Executive Branch, and other government leaders. GRPP is implementing the use of an online tool used by public policy professionals across all industries to manage relationships with Congressional, federal, and state officials. The online tool also provides public policy professionals with enhanced legislative and public policy research and analysis tools. GRPP will primarily use the online tool to research and track legislative and public policy actions of members of Congress and Congressional committees to determine if such action could impact the Postal Service. Additionally, GRPP will use the communications features of the tool to send educational and advocacy information to members of Congress and their staff, and to track the number of engagements with members of Congress and their staff for internal reporting purposes. GRPP will also enter notes in the tool to memorialize details of engagements with members of Congress and Congressional staff that will be maintained to provide historical perspectives to all GRPP personnel who may be involved in future engagements with the same officials.

II. Rationale for Changes to USPS Privacy Act Systems of Records

The Postal Service is proposing to modify USPS SOR 100.200 Employee Performance Records to support the implementation of an online tool by the GRPP department that will be used to more effectively manage relationships with Congressional, federal, and state officials. Implementation of the use of the online tool is expected to enhance legislative and public policy research, tracking and analysis capabilities, gain better insights on GRPP's Congressional engagements, and to enhance the ability for more centralized and trackable delivery of information to Congress.

A new Purpose is being added to SOR 100.200, Employee Performance Records, along with a new Category of Records and record retention and disposal policy that pertain to records maintained by the online tool. The Postal Service is also proposing administrative changes for system managers within the SOR to reflect recent organizational changes.

III. Description of the Modified System of Records

Pursuant to 5 U.S.C. 552a(e)(11), interested persons are invited to submit written data, views, or arguments on this proposal. A report of the proposed revisions to USPS SOR 100.200, Employee Performance Records, has been sent to Congress and to the Office of Management and Budget for their evaluations. The Postal Service does not expect this modified system of records to have any adverse effect on individual privacy rights. Accordingly, for the reasons stated above, the Postal Service proposes revisions to this system of records as follows:

SYSTEM NAME AND NUMBER:

USPS 100.200 Employee Performance Records.

SECURITY CLASSIFICATION:

None.

SYSTEM LOCATION:

USPS facilities where employee performance is evaluated or measured.

SYSTEM MANAGER(S):

Vice President, Human Resources, United States Postal Service, 475 L'Enfant Plaza SW, Washington, DC 20260.

Vice President, Government Relations and Public Policy, United States Postal Service, 475 L'Enfant Plaza, SW, Washington, DC 20260.

AUTHORITY FOR MAINTENANCE OF THE SYSTEM:

39 U.S.C. 401, 410, 1001, 1005, and 1206.

PURPOSE(S) OF THE SYSTEM:

1. To provide managers and supervisors with decision making information for training needs, promotion, assignment considerations, or other job-related actions.

2. To administer achievement award programs and pay for performance.

3. To improve relations and communication between managers and employees by soliciting employee feedback, and to improve management and supervisor leadership skills.

4. To document USPS Business interactions and meetings for historical purposes.

CATEGORIES OF INDIVIDUALS COVERED BY THE SYSTEM:

Current and former USPS employees, including supervisors and managers who are responsible for a work location.

CATEGORIES OF RECORDS IN THE SYSTEM:

1. Employee information: Name, Social Security Number, Employee Identification Number, postal assignment information, work contact information, username, email address, finance number(s), duty location, and pay location.

2. Employee performance information: Records related to individual performance evaluation; reports about supervisors and managers who are responsible for a work location; employee recognition; and safe driver awards.

3. USPS Business information: Records maintained regarding an employee's use of record tracking system; records maintained regarding employee's participation and/or presence representing the USPS in meetings and discussions; information regarding USPS meetings, such as time, place, topics discussed, and attendees.

RECORD SOURCE CATEGORIES:

Employees and employees' supervisor or manager.

ROUTINE USES OF RECORDS MAINTAINED IN THE SYSTEM, INCLUDING CATEGORIES OF USERS AND PURPOSES OF SUCH USES:

Standard routine uses 1. through 9. apply. In addition:

a. When records about the receipt of an award by an employee, including driver safety records, are of news interest and consistent with the public's right to know, the records may be disclosed to the news media or the National Safety Council.

POLICIES AND PRACTICES FOR STORAGE OF RECORDS:

Automated database, computer storage media, digital files, and paper files.

POLICIES AND PRACTICES FOR RETRIEVAL OF RECORDS:

By employee name, email address, username, Social Security Number, Employee Identification Number, or duty or pay location.

POLICIES AND PRACTICES FOR RETENTION AND DISPOSAL OF RECORDS:

1. Pay for performance evaluation records are retained 5 years. Individual performance evaluations are retained 5 years or until separation of the employee, whichever comes first.

2. Incentive award records are retained 7 years. Length of service award records are retained 1 year. Non-USPS awards are retained 2 years. Letters of commendation and appreciation (excluding permanent copies filed in the OPF or eOPF) are retained 2 years.

3. Employee survey records are retained 5 years.

4. Safe Driver Award records are retained 2 years from date of separation, expiration of license, rescission of authorization, transfer of driver into a nondriving status, or other transfer, whichever comes first.

5. Active employee data is retained until the employee no longer is active or has access to the tracking system; USPS business information which may contain employee names is retained indefinitely for historical purposes.

Records existing on paper are destroyed by burning, pulping, or shredding. Records existing on computer storage media are destroyed according to the applicable USPS media sanitization practice.

ADMINISTRATIVE, TECHNICAL, AND PHYSICAL SAFEGUARDS:

Paper records, computers, and computer storage media are located in controlled-access areas under supervision of program personnel. Access to these areas is limited to authorized personnel, who must be identified with a badge.

Access to records is limited to individuals whose official duties require such access. Contractors and licensees are subject to contract controls and unannounced on-site audits and inspections. Computers are protected by mechanical locks, card key systems, or other physical access control methods.

The use of computer systems is regulated with installed security software, computer logon identifications, and operating system controls including access controls, terminal and transaction logging, and file management software.

RECORD ACCESS PROCEDURES:

Requests for access must be made in accordance with the Notification Procedure above and USPS Privacy Act regulations regarding access to records and verification of identity under 39 CFR 266.5.

CONTESTING RECORD PROCEDURES:

See Notification Procedure and Record Access Procedures.

NOTIFICATION PROCEDURES:

Individuals wanting to know if information about them is maintained in this system must address inquiries to the facility head where currently or last employed. Headquarters employees must submit inquiries to Human Resources or Government Relations and Public Policy, 475 L'Enfant Plaza SW, Washington, DC 20260.

Inquiries must include full name, Social Security Number or Employee Identification Number, name and address of facility where last employed, and dates of USPS employment.

EXEMPTIONS PROMULGATED FOR THE SYSTEM:

None.

HISTORY:

June 17, 2011, 76 FR 35483; April 29, 2005, 70 FR 22516.

Ruth B. Stevenson,
Chief Counsel, Ethics and Legal Compliance.

[FR Doc. 2021-17117 Filed 8-10-21; 8:45 am]

BILLING CODE 7710-12-P